DEPARTMENT OF TRANSPORTATION

Federal Highway Administration

Notice To Rescind a Notice of Intent and Draft Environmental Impact Statement: US 60 Superior to Globe Corridor Improvement/Realignment Study; Pinal and Gila Counties, Arizona.

AGENCY: Federal Highway Administration (FHWA), Department of Transportation.

ACTION: Notice to rescind a Notice of Intent and Draft Environmental Impact Statement.

SUMMARY: The FHWA is issuing this notice to advise the public that FHWA and the Arizona Department of Transportation (ADOT) will not prepare an Environmental Impact Statement (EIS) for the proposed improvements or rerouting of US Highway (US) 60 in Pinal and Gila counties, Arizona. A Notice of Intent to prepare an EIS was published in the Federal Register on April 30, 2009.

FOR FURTHER INFORMATION CONTACT: Thomas Deitering, Project Delivery Team Leader, Federal Highway Administration, Arizona Division Office, 4000 North Central Avenue, Suite 1500, Phoenix, Arizona 85012, Telephone: (602) 382-8971, FAX: (602) 382-8998, Email: Thomas.Deitering@dot.gov; or Rebecca Yedlin, Environmental Coordinator, Federal Highway Administration, Arizona Division Office, 4000 North Central Avenue, Suite 1500, Phoenix, Arizona 85012, Telephone: (602) 382-8979, FAX: (602) 382-8998, Email: Rebecca.Yedlin@dot.gov.

The FHWA Arizona Division Office's normal business hours are 8:00 a.m. to 5:00 p.m. (Moutain Standard Time).

SUPPLEMENTARY INFORMATION: On April 30, 2009, the FHWA, in cooperation with ADOT, issued a Notice of Intent (NOI) titled: “Environmental Impact Statement: Final (Pinal) and Gila Counties, AZ.” The intent of the project was to improve and/or realign US 60 in Pinal and Gila counties, Arizona from west of Superior at approximately milepost (MP) 222.6 to east of Globe at approximately MP 258.0. The US 60 Corridor bisects the towns of Superior and Miami as well as the city of Globe. The project was issued a Federal Aid Number STP-060-D(214)A and an ADOT project number 060 GI 222 H7162 01L.

A No-Build Alternative and several Build Alternatives were being considered in the EIS for the Design Year 2040. The No-Build Alternative served as the baseline for the analysis conducted under the National Environmental Policy Act (NEPA).

The design and construction of separate widening and passing lane projects within the study corridor have commenced since the initiation of this study which have or will improve driving conditions for the traveling public. Additionally, funding to complete the study is not available. As such, the preparation of the EIS for the US 60 Superior to Globe Corridor Improvement/Realignment Study is being terminated. Any future transportation improvements or realignments of US 60 throughout this corridor will be determined and prioritized through ADOT's Long Range and 5-Year Transportation Plans, and any future actions will progress under a separate environmental review process, in accordance with all applicable laws and regulations.

(Catalog of Federal Domestic Assistance Program Number 20.205, Highway Planning and Construction. The regulations implementing Executive Order 12372 regarding intergovernmental consultation on Federal programs and activities apply to this program.)

Dated: November 25, 2014.
Karla S. Petty,
FHWA Arizona Division Administrator, Phoenix, AZ.

[FR Doc. 2014-28366 Filed 12-1-14; 8:45 am]

BILLING CODE P